DEPARTMENT OF TRANSPORTATION

Federal Highway Administration

Environmental Impact Statement: Madison County, IL

AGENCY: Federal Highway Administration (FHWA), DOT.

ACTION: Notice of Intent.

SUMMARY: The FHWA is issuing this notice of intent to advise the public that an Environmental Impact Statement will be prepared for a proposed transportation project in Alton and Godfrey, Illinois in an area bounded roughly by IL Route 3 on the south; Seminary Road on the east; Seiler Road on the north and US 67 on the west.

FOR FURTHER INFORMATION CONTACT: Norman Stoner, Division Administrator, Federal Highway Administration, 3250 Executive Park Drive, Springfield, Illinois 62703, Phone: (217) 492-4640. Omer Osman, Deputy Director of Highways, Region 5 Engineer, Illinois Department of Transportation, 1102 Eastport Plaza Drive, Collinsville, Illinois 62234, Phone: (618) 346-3110.

SUPPLEMENTARY INFORMATION: The FHWA, in cooperation with the Illinois Department of Transportation (IDOT) will prepare an Environmental Impact Statement (EIS) for a project that involves improved transportation flow, safety and connectivity in Alton and Godfrey, Illinois. Improved connectivity will focus on IL Route 3 and IL Route 255. Possible alternatives include: No Action, an upgrade of existing roadways and connections, or roadways on new alignment with new connections.

IDOT has initiated a scoping process that involves all appropriate federal, state, and local agencies, consulting parties, private organizations and citizens who have previously expressed or are known to have interest in this proposal. Context Sensitive Solutions (CSS) is being used for this project and a Stakeholder Involvement Plan (SIP) has been developed. A public hearing will be held to present the findings of the Draft EIS. Public notice will be given regarding the time and place of the hearing. The Draft EIS will be available for public and agency review and comment prior to the public hearing.

There are sensitive resources within the study area. These resources include schools, a Centennial farm, wetlands, Coal Branch Creek, the West Fork of Wood River, and areas with highly erodible soils. Sites within the study area listed on the National Register of Historic Places include the Benjamin Godfrey Mansion, Benjamin Godfrey Memorial Chapel, and Gilman Hall at Lewis and Clark Community College and Bierbaum Monument and Levis Tomb at Oakwood Cemetery. There is potential for archaeological sites within the study area. No formal neighborhood groups are within the study area. However, there are several residential subdivisions and cohesiveness and character of neighborhoods as well as noise impacts will need to be further analyzed. In addition, it has yet to be determined if there is potential for threatened and endangered species within the study area.

To ensure that the full range of issues related to this proposed action are addressed and all major issues are identified in the process, comments and suggestions are invited from all interested and/or potentially affected parties. Comments or questions concerning this proposed action and the EIS should be directed to FHWA or IDOT at the addresses provided above.

(Catalog of Federal Domestic Assistance Program Number 20.205, Highway Research, Planning and Construction. The regulations implementing Executive Order 12372 regarding intergovernmental consultation on Federal programs and activities apply to this program.)

Issued on: April 24, 2012.
Norman R. Stoner,
Division Administrator Springfield, Illinois.

[FR Doc. 2012-10448 Filed 4-30-12; 8:45 am]

BILLING CODE 4910-22-P